DEPARTMENT OF ENERGY

Federal Energy Regulatory Commission

Notice of Amendment of License and Soliciting Comments, Motions To Intervene, and Protests

May 17, 2001.

Take notice that the following hydroelectric applications have been filed with the Commission and are available for public inspection:

a. Application Type: Amendment of License—Small Turbine Generator Installation.

b. Project No.: 2145-042 and 943-075.

c. Date Filed: May 16, 2001.

d. Applicant: Public Utility District No. 1 of Chelan County, Washington.

e. Name of Project: Rocky Reach and Rock Island Hydroelectric Projects.

f. Location: On the Columbia River near the city of Wenatchee, in Chelan and Douglas Counties, in Washington state. The projects occupy lands managed by the Bureau of Land Management and the U.S. Forest Service.

g. Filed Pursuant to: Federal Power Act, 16 U.S.C. 791(a)-825(r).

h. Applicant Contact: Robert A. Salter, Public Utility District No. 1 of Chelan County, Washington, P.O. box 1231, Wenatchee, WA, 98807; (509) 663-8121.

i. FERC Contact: Questions about this notice can be answered by Vince Yearick at (202) 219-3073 or e-mail address: vince.yearick@ferc.fed.us. The Commission cannot accept comments, recommendations, motions to intervene or protest sent by e-mail; these documents must be filed as described below.

j. Deadline for filing comments, motions to intervene, and protests: 14 days from the issuance date of this notice.

All documents (original and eight copies) should be filed with: David P. Boergers, Secretary, Federal Energy Regulatory Commission, 888 First Street, NE., Washington, DC 20426. Comments, protests and interventions may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Filing: Public Utility District No. 1 of Chelan County, Washington, has filed applications requesting that its licenses for the Rocky Reach and Rock Island projects be amended to allow for the installation of small turbine generators within the attraction water conduits of existing adult fishways.

At the Rocky Reach Project, Chelan PUD would install a small, 0.8 MW, fixed-blade propeller turbine generator within the attraction water conduit upstream of the point where water enters the fishway. The installation would not occur within the fishway itself.

At the Rock Island Project, Chelan PUD would install a small, 0.7 MW, Kaplan turbine generator in the attraction water conduit of the left bank adult fishway. The installation would not occur within the fishway itself.

l. A copy of the application is available for inspection and reproduction at the Commission's Public Reference Room at 888 First Street NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters in the title “COMMENTS,” “RECOMMENDATIONS FOR TERMS AND CONDITIONS,” “PROTEST,” or “MOTION TO INTERVENE,” as applicable, and the Project Number(s) of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-12952 Filed 5-22-01; 8:45 am]

BILLING CODE 6717-01-M